ENVIRONMENTAL PROTECTION AGENCY

[EPA-HQ-OPP-2020-0052; FRL-10013-88]

Pesticide Product Registration; Receipt of Applications for New Uses (July 2020)

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before September 24, 2020.

ADDRESSES: Submit your comments, identified by the docket identification (ID) number and the File Symbol of the EPA registration Number of interests as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Anne Overstreet, Biopesticides and Pollution Prevention Division (BPPD) (7511P), main telephone number: (703) 305-7090, email address: BPPDFRNotices@epa.gov; Marietta Echeverria, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipts—New Uses

1. EPA Registration Numbers: 100-1478, 100-1476, 100-1471 and 100-1480. Docket ID number: EPA-HQ-OPP-2020-0066. Applicant: Syngenta Crop Protection, LLC, P.O. Box 18300, Greensboro, NC 27419. Active ingredient: Benzovindiflupyr. Product type: Fungicide. Proposed Uses: Blueberry, Lowbush and Ginseng. Contact: RD.

2. EPA Registration Number: 100-1479. Docket ID number: EPA-HQ-OPP-2020-0066. Applicant: Syngenta Crop Protection, LLC, P.O. Box 18300, Greensboro, NC 27419. Active ingredient: Benzovindiflupyr. Product type: Fungicide. Proposed Uses: Ornamentals in residential landscapes; turf use sites in residential landscapes, athletic fields and around institutional, commercial, and industrial buildings. Contact: RD.

3. EPA Registration Numbers: 2217-2 and 2217-455. Docket ID number: EPA-HQ-OPP-2019-0233. Applicant: PBI/Gordon Corporation, P.O. Box 860350, Shawnee, KS 66286. Active ingredient: 2,4-D. Product type: Herbicide. Proposed use: Sesame seed. Contact: RD.

4. EPA Registration Number: 7969-433. Docket ID number: EPA-HQ-OPP-2020-0202. Applicant: BASF Corporation, 26 Davis Drive, Research Triangle Park, NC 27709. Active ingredient: Isoxaflutole. Product type: Herbicide. Proposed use: Cottonseed and cotton gin byproducts. Contact: RD.

5. EPA Registration Number: 91746-8. Docket ID number: EPA-HQ-OPP-2020-0383. Applicant: Belchim Crop Protection US Corporation, 2751 Centreville Road, Suite 100, Wilmington, Delaware 19808. Active ingredient: Pelargonic Acid. Product type: Biochemical Herbicide. Proposed use: Direct application to weeds in aquatic areas. Contact: BPPD.

Authority: 7 U.S.C. 136 et seq.

Dated: August 12, 2020.
Hamaad Syed,
Deputy Director, Information Technology and Resources Management Division, Office of Pesticide Programs.

[FR Doc. 2020-18600 Filed 8-24-20; 8:45 am]

BILLING CODE 6560-50-P